DEPARTMENT OF ENERGY

[FE Docket No. PP-68-2]

Notice of Floodplain and Wetlands Involvement; San Diego Gas & Electric Company

AGENCY: Office of Fossil Energy, DOE.

ACTION: Notice of floodplain/wetland involvement.

SUMMARY: San Diego Gas & Electric Company (SDG&E) has applied to amend Presidential Permit PP-68 authorizing the construction, operation, maintenance, and connection of a 230-kV electric transmission line at the U.S. international border with Mexico. The proposed action has the potential to impact on a floodplain/wetlands. In accordance with DOE regulations for compliance with floodplain/wetlands environmental review requirements (10 CFR part 1022), a floodplain or wetlands assessment will be performed for this proposed action in a manner so as to avoid or minimize potential harm to or within potentially affected floodplain and wetlands.

DATES: Comments are due to the address below no later than September 20, 2001.

ADDRESSES: Written comments, questions about the proposed action, and requests to review the draft environmental assessment should be directed to: Ellen Russell, Office of Coal & Power Import and Export (FE-27), Office of Fossil Energy, U.S. Department of Energy, 1000 Independence Avenue, SW., Washington, DC 20585-0350. Fax: (202) 287-5736. E-mail: Ellen.Russell@hq.doe.gov.

FOR FURTHER INFORMATION CONTACT: Ellen Russell (Program Office) 202-586-9624 or Michael T. Skinker (Program Attorney) 202-586-6667.

For Further Information on General DOE Floodplain and Wetlands Environmental Review Requirements Contact:

Carol M. Borgstrom, Director, Office of NEPA Policy and Assistance (EH-42), U.S. Department of Energy, 1000 Independence Avenue, SW, Washington, DC 20585-0119; Phone: 202-586-4600 or leave a message at 800-472-2756.

SUPPLEMENTARY INFORMATION: Under Executive Order 11988, Floodplain Management, and 10 CFR part 1022, Compliance with Floodplain-Wetlands Environmental Review Requirements (http://tis-nt.eh.doe.gov/nepa/tools/regulate/nepa_reg/1022/1022.htm), notice is given that DOE is considering an application from SDG&E to amend the existing Presidential permit to authorize it to make certain changes to the existing transmission line to provide for the connection of the 510-megawatt (MW) Otay Mesa merchant powerplant being developed 1.5 miles north of the border. To interconnect the new powerplant to the existing PP-68 international transmission facilities, SDG&E proposes to construct a 5-acre switchyard within the fenced boundary of the powerplant and to construct approximately 0.1 miles of new 230-kV transmission line to interconnect with the 230-kV Miguel-Tijuana transmission line.

SDG&E also proposes to reconductor that portion of the existing transmission line from the new 5-acre switchyard, north to the Miguel Substation, a distance of approximately 8.5 miles. SDG&E proposes to bundle each circuit by adding a second set of conductors to each phase (i.e., 12 total conductors versus 6 that currently exist). The 1.5 mile portion of SDG&E's Miguel-Tijuana international transmission line south of the Otay Mesa powerplant will remain unchanged. Notice of SDG&E's application to amend Presidential Permit PP-68 appeared in the Federal Register on February 27, 2001 (66 FR 12504).

Before making a final decision on granting or denying a Presidential permit amendment to SDG&E, DOE will prepare an environmental assessment (EA) to address the environmental impacts that would accrue from the proposed project and reasonable alternatives. The EA will be prepared in compliance with the National Environmental Policy Act of 1969 (NEPA) (42 U.S.C. 4321 et seq.). Because the proposed action has the potential to impact on a floodplain/wetlands, the EA will include a floodplain and wetlands assessment. A floodplain statement of findings will be included in any Finding of No Significant Impact (FONSI) that may be issued following completion of the EA. Copies of the EA and FONSI may be requested by telephone, facsimile, or e-mail from the address given above.

Issued in Washington, DC, on August 29, 2001.
Anthony J. Como,
Deputy Director, Electric Power Regulation, Office of Coal & Power Import/Export, Office of Fossil Energy.

[FR Doc. 01-22236 Filed 9-4-01; 8:45 am]

BILLING CODE 6450-01-P